DEPARTMENT OF HEALTH AND HUMAN SERVICES

Centers for Disease Control and Prevention

Breath Responsive Powered Air-Purifying Respirators (PAPRs); Notice of Acceptance and Evaluation

AGENCY: Centers for Disease Control and Prevention (CDC), National Institute for Occupational Safety and Health (NIOSH), Department of Health and Human Services (DHHS).

ACTION: Notice.

SUMMARY: This notice announces the criteria and standard test procedure that are being used by NIOSH for the evaluation of applications for approval of breath responsive powered air-purifying respirators (PAPRs).

FOR FURTHER INFORMATION CONTACT: Mr. Sam Terry, Team Leader, Respirator Certification Team, Respirator Branch, Division of Respiratory Disease Studies, NIOSH, 1095 Willowdale Road, Morgantown, West Virginia 26505, Telephone (304) 285-5907.

SUPPLEMENTARY INFORMATION: A breath responsive powered air-purifying respirator (PAPR) is designed to deliver filtered air to the user upon demand in order to match the respiratory requirements of the user. The requirements for the evaluation of PAPRs under Title 42, Code of Federal Regulations, part 84, do not address these design features. In accordance with 42 CFR 84.60 and 84.63, and the past practice of NIOSH, the Institute will evaluate a breath responsive PAPR submitted for approval under the requirements for PAPRs in 42 CFR part 84 that are applicable to its design. Design features of breath responsive PAPRs that cannot be addressed under the present PAPR standards will be evaluated under additional test procedures established to determine the quality, effectiveness and safety of the respirator. Since there is no applicable test for breath responsive PAPRs in the PAPR requirements, the Institute has determined that the airflow resistance for breath responsive PAPRs will be evaluated under the requirements of 42 CFR 84, subpart J, § 84.157, for pressure-demand supplied air respirators. For the convenience of the reader, § 84.157 is republished as follows:

§ 84.157 Airflow resistance test; Type C supplied-air respirator, pressure-demand class; minimum requirements.

(a) The static pressure in the facepiece shall not exceed 38 mm. (1.5 inches) of water-column height.

(b) The pressure in the facepiece shall not fall below atmospheric at inhalation airflows less than 115 liters (4 cubic feet) per minute.

(c) The exhalation resistance to a flow of air at a rate of 85 liters (3 cubic feet) per minute shall not exceed the static pressure in the facepiece by more than 51 mm. (2 inches) of water-column height.

NIOSH has developed Standard Test Procedure APRS-STP-0065-00 which can adequately test the quality, effectiveness and safety of this type of design feature. Copies of this procedure are available upon request.

Linda Rosenstock,
Director, National Institute for Occupational Safety and Health, Centers for Disease Control and Prevention.

[FR Doc. 00-8371 Filed 4-6-00; 8:45 am]

BILLING CODE 4160-18-U